DEPARTMENT OF LABOR

Employment and Training Administration

[TA-W-56,125]

Caledonia Two, Formerly South Carolina Tees, Andrews, South Carolina; Notice of Termination of Investigation

Pursuant to section 221 of the Trade Act of 1974, as amended, an investigation was initiated on December 3, 2004 in response to a petition filed on behalf of workers of Caledonia Two, formerly South Carolina Tees, Andrews, South Carolina.

The petition was filed more than one year after the subject firm was closed. Consequently, further investigation in this case would serve no purpose, and the investigation has been terminated.

Signed at Washington, DC, this 14th day of December, 2004.
Elliott S. Kushner,
Certifying Officer, Division of Trade Adjustment Assistance.

[FR Doc. E5-264 Filed 1-25-05; 8:45 am]

BILLING CODE 4510-30-P